COMMISSION ON CIVIL RIGHTS

Agenda and Notice of Public Meeting of the Maryland Advisory Committee

AGENCY: Commission on Civil Rights.

ACTION: Announcement of monthly planning meetings.

SUMMARY: Notice is hereby given, pursuant to the provisions of the rules and regulations of the U.S. Commission on Civil Rights (Commission), and the Federal Advisory Committee Act (FACA) that the Maryland Advisory Committee (MD Advisory Committee) will convene meetings by conference call at 12:30 p.m. (EDT) on each of the following Fridays: April 22, May 20, June 17, July 15, August 19, 2016. The purpose of each meeting is to discuss project planning and eventually select topic(s) for the Committee's civil rights review. In addition, at the May 20, 2016, meeting, the members will nominate and select additional Committee officers.

Interested members of the public may listen to the discussion by calling the following toll-free conference call number: 1-888-437-9445 and conference call ID: 2956454. An open comment period will be provided to allow members of the public to make a statement. Please be advised that before placing them into the conference call, the conference call operator will ask callers to provide their names, their organizational affiliations (if any), and email addresses (so that callers may be notified of future meetings). Callers can expect to incur charges for calls they initiate over wireless lines, and the Commission will not refund any incurred charges. Callers will incur no charge for calls they initiate over land-line connections to the toll-free telephone number herein.

Persons with hearing impairments may also follow the discussion by first calling the Federal Relay Service at 1-888-364-3109 and providing the operator with the toll-free conference call number: 1-888-437-9445 and conference call ID: 2956454.

Members of the public are also invited to submit written comments; the comments must be received in the regional office approximately 30 days after each scheduled meeting. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at http://facadatabase.gov/committee/meetings.aspx?cid=253. Click the “Meeting Details” and “Documents” links to download documents. Records generated from this meeting may also be inspected and reproduced at the Eastern Regional Office, as they become available, both before and after the meetings. Persons interested in the work of this advisory committee are advised to go to the Commission's Web site, www.usccr.gov, or to contact the Eastern Regional Office at the above phone number, email or street address.

Agenda

Welcome and Introductions

Rollcall

Planning Meeting

Discuss and Eventually Select Topic(s) for Civil Rights Project Review

Discuss and Eventually Appoint Working Group(s)

Other Business

Open Comment

Adjournment

DATES: The meetings will be held on the following Fridays: April 22, May 20, June 17, July 15 and August 19, 2016.

Time: Each meeting starts at 12:30 p.m. (EDT).

Public Call-In Information: Conference call number: 1-888-437-9445 and conference call ID: 2956454.

TDD: Dial Federal Relay Service at 1-800-977-8339 and give the operator the above toll-free conference call number and conference call ID.

FOR FURTHER INFORMATION CONTACT: Ivy L. Davis, at ero@usccr.gov or by phone at 202-376-7533.

Dated: March 30, 2016.
David Mussatt,
Chief, Regional Programs Unit.

[FR Doc. 2016-07630 Filed 4-4-16; 8:45 am]

BILLING CODE 6335-01-P